DEPARTMENT OF JUSTICE

Antitrust Division

Notice Pursuant to the National Cooperative Research and Production Act of 1993—Semiconductor Equipment and Materials International (“SEMI”)

Notice is hereby given that, on January 8, 2002, pursuant to section 6(a) of the National Cooperative Research and Production Act of 1993, 15 U.S.C. 4301 et seq. (“the Act”), Semiconductor Equipment and Materials International (“SEMI”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Semiconductor Equipment and Materials International, San Jose, CA; Domainlogix, Austin, TX; ILS Technologies, Charlotte, NC; Oceana Sensor Technologies, Virginia Beach, VA; and Advanced Micro Devices, Sunnyvale, CA. The nature and objectives of the venture are to conduct research on and develop an eManufacturing Security Framework to improve semiconductor manufacturing productivity.

Constance K. Robinson,
Director of Operations, Antitrust Division.

[FR Doc. 02-5532 Filed 3-7-02; 8:45 am]

BILLING CODE 4410-11-M